ENVIRONMENTAL PROTECTION AGENCY

[FRL-9962-01-OA]

Notification of a Public Meeting of the Chartered Science Advisory Board

AGENCY: Environmental Protection Agency (EPA).

ACTION: Notice.

SUMMARY: The Environmental Protection Agency (EPA) Science Advisory Board (SAB) Staff Office announces a public meeting of the chartered Science Advisory Board. The chartered SAB will meet to conduct quality reviews of two draft SAB reports: Review of EPA's Analyses to Support EPA's National Primary Drinking Water Rulemaking for PFAS, and Review of the EPA's Draft Fifth Contaminant Candidate List (CCL 5). The chartered SAB will also discuss any recommendations received from the SAB Work Group for Review of Science Supporting EPA Decisions with regard to SAB review of planned EPA actions.

DATES: The public meeting of the chartered Science Advisory Board will be held on Monday, July 18, 2022, from 1:00 p.m. to 6:00 p.m. (Eastern Time) and Wednesday, July 20, 2022, from 1:00 p.m. to 6:00 p.m. (Eastern Time).

ADDRESSES: The meeting will be conducted virtually. Please refer to the SAB website at https://sab.epa.gov for information on how to attend the meeting.

FOR FURTHER INFORMATION CONTACT: Any member of the public who wants further information concerning this notice may contact Dr. Thomas Armitage, Designated Federal Officer (DFO), via telephone (202) 564-2155, or email at armitage.thomas@epa.gov. General information about the SAB, as well as any updates concerning the meetings announced in this notice can be found on the SAB website at https://sab.epa.gov.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the chartered Science Advisory Board will hold a public meeting to discuss and deliberate on the topics below.

The Chartered SAB will conduct a quality review of the SAB PFAS Review Panel report titled Review of EPA's Analyses to Support EPA's National Primary Drinking Water Rulemaking for PFAS. Background information about this activity is available on the SAB website at: https://sab.epa.gov/ords/sab/f?p=114:18:15778906977107:::RP,18:P18_ID:2601.

The Chartered SAB will also conduct a quality review of the SAB CCL5 Review Committee report titled Review of the EPA's Draft Fifth Contaminant Candidate List (CCL 5). Background information about this activity is available on the SAB website at: https://sab.epa.gov/ords/sab/f?p=114:18:15778906977107:::RP,18:P18_ID:2600. The SAB quality review process ensures that all draft reports developed by SAB panels, committees, or workgroups are reviewed by the Chartered SAB before being finalized and transmitted to the EPA Administrator. These reviews are conducted in a public meeting as required by FACA.

The Chartered SAB will also discuss any recommendations received from the SAB Work Group for Review of Science Supporting EPA Decisions with regard to SAB review of other EPA planned actions. Under the SAB's authorizing statute, the SAB “may make available to the Administrator, within the time specified by the Administrator, its advice and comments on the adequacy of the scientific and technical basis” of proposed rules. The SAB Work Group for Review of Science Supporting EPA Decisions is charged with identifying EPA planned actions that may warrant SAB review.

Availability of Meeting Materials: All meeting materials, including the agenda will be available on the SAB web page at https://sab.epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should follow the instruction below to submit comments.

Oral Statements: In general, individuals or groups requesting an oral presentation at a public meeting will be limited to three minutes. Each person making an oral statement should consider providing written comments as well as the oral statement so that the points presented orally can be expanded upon in writing. Persons interested in providing oral statements should contact the DFO, in writing (preferably via email) at the contact information noted above by July 11, 2022, to be placed on the list of registered speakers.

Written Statements: Written statements will be accepted throughout the advisory process; however, for timely consideration by SAB members, statements should be submitted to the DFO by July 11, 2022, for consideration at the public meeting on July 18, 2022, and July 20, 2022. Written statements should be supplied to the DFO at the contact information above via email. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact the DFO, at the contact information noted above, preferably at least ten days prior to the meeting, to give the EPA as much time as possible to process your request.

V. Khanna Johnston,
Deputy Director, Science Advisory Board Staff Office.

[FR Doc. 2022-13629 Filed 6-24-22; 8:45 am]

BILLING CODE 6560-50-P